DEPARTMENT OF COMMERCE

National Oceanic and Atmospheric Administration

RIN 0648-XE684

Endangered Species; File No. 20197

AGENCY: National Marine Fisheries Service (NMFS), National Oceanic and Atmospheric Administration (NOAA), Commerce.

ACTION: Notice; receipt of application.

SUMMARY: Notice is hereby given that NMFS Northeast Fisheries Science Center, 166 Water Street, Woods Hole, MA 025433-3149 [Responsible Party: Dr. William Karp] has applied in due form for a permit to take loggerhead (Caretta caretta), green (Chelonia mydas), Kemp's ridley (Lepidochelys kempii), leatherback (Dermochelys coriacea), and unidentified hardshell sea turtles for purposes of scientific research.

DATES: Written, telefaxed, or email comments must be received on or before July 25, 2016.

ADDRESSES: The application and related documents are available for review by selecting “Records Open for Public Comment” from the “Features” box on the Applications and Permits for Protected Species (APPS) home page, https://apps.nmfs.noaa.gov, and then selecting File No. 20197 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Arturo Herrera or Amy Hapeman, (301) 427-8401.

SUPPLEMENTARY INFORMATION: The subject permit is requested under the authority of the Endangered Species Act of 1973, as amended (ESA; 16 U.S.C. 1531 et seq.) and the regulations governing the taking, importing, and exporting of endangered and threatened species (50 CFR parts 222-226).

The applicant requests a five-year permit to sample sea turtles incidentally caught during commercial fishing operations by Northeast Fisheries Science Center (NEFSC) certified observers. The purpose of this project is to monitor the take of sea turtle species in observed commercial fisheries and collect data to estimate total bycatch Observers would be authorized to measure, flipper tag, tissue sample, photograph, and video live sea turtles and to salvage carcasses and parts from dead sea turtles.

Up to 50 loggerhead, 10 Kemp's ridley, 10 green, 20 leatherback, and 20 unidentified sea turtles would be sampled annually.

Dated: June 21, 2016.
Jolie Harrison,
Chief, Permits and Conservation Division, Office of Protected Resources, National Marine Fisheries Service.

[FR Doc. 2016-14989 Filed 6-23-16; 8:45 am]

BILLING CODE 3510-22-P